DEPARTMENT OF HOUSING AND URBAN DEVELOPMENT

[Docket No. FR-4910-N-15]

Notice of Proposed Information Collection for Public Comment; Homeownership Voucher Program Survey

AGENCY: Office of the Assistant Secretary for Public and Indian Housing (PIH), HUD.

ACTION: Notice.

SUMMARY: The proposed information collection requirement described below will be submitted to the Office of Management and Budget (OMB) for review, as required by the Paperwork Reduction Act. The Department is soliciting public comments on the subject proposal.

DATES: Comments Due Date: July 6, 2004.

ADDRESSES: Interested persons are invited to submit comments regarding this proposal. Comments should refer to the proposal by name and or OMB Control number and should be sent to: Sherry Fobear-McCown, Reports Liaison Officer, Public and Indian Housing, Department of Housing and Urban Development, 451 7th Street, SW., Room 4116, Washington, DC 20410-5000. Comments may also be provided to Gerald J. Benoit, Division Director, Office of Housing Voucher Programs, Public and Indian Housing, Department of Housing and Urban Development, 451 7th Street, SW., Room 4210, Washington, DC 20410-5000.

FOR FURTHER INFORMATION CONTACT: Gerald J. Benoit, (202) 708-0477 (this is not a toll-free number). Fax number (202) 401-7974.

SUPPLEMENTARY INFORMATION: The Department will submit the proposed information collection to OMB for review, as required by the Paperwork Reduction Act of 1995 (44 U.S.C. chapter 35, as amended). The Housing Choice Voucher (HCV) Program is a major program of the Federal government for assisting very low-income families, the elderly, and the disabled to afford decent, safe, and sanitary housing in the private market. Since housing assistance is provided on behalf of the family or individual, participants are able to find their own housing, including single-family homes, townhouses and apartments.

Under section 8(y) of the United States Housing Act of 1937, as amended, a public housing agency may provide tenant-based assistance to an eligible family that purchases a dwelling unit the family will occupy. In implementation of this statute, a PHA may choose to administer a homeownership voucher program and provide homeownership assistance payments to eligible home buyers using funds available by HUD to the PHA under the housing choice voucher program. Homeownership assistance payments are made available by the PHA to assist participants in paying mortgage and other homeownership expenses.

Collection of accurate information regarding private home purchases under this program is vital to PIH's ability to measure the program usage and effectiveness, promote and further the purposes of the program, as well as to provide information to the public and to Congress regarding program implementation. The purpose of this survey is to contact public housing agencies to collect information regarding the number of homeownership closings, problems in reporting homeownership closings under PIH reporting systems, and to obtain information needed to plan the application of resources to further promote and expand the program.

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Public and Indian Housing, Homeownership Voucher Survey.

OMB Control Number: 2577-XXXX.

Description of the Need for the Information and Proposed Use: The Homeownership Voucher survey will give PIH the ability to measure the usage of this program and to determine the extent to which technical assistance and/or training is needed for program implementation.

Agency Form Numbers, if Applicable: None.

Members of Affected Public: State or local governments, housing agencies.

Estimation of the Total Number of Hours Needed to Prepare the Information Collection Including Number of Respondents, Frequency of Response, and Hours of Response: Homeownership Voucher Program Survey, with a one-time response estimated to take 6 minutes per survey, for a total reporting burden of 245 hours, based on 2450 survey responses.

Status of the Proposed Information Collection: New collection.

Authority: Section 3506 of the Paperwork Reduction Act of 1995, 44 U.S.C. chapter 35, as amended.

Dated: June 16, 2004.
Michael M. Liu,
Assistant Secretary for Public and Indian Housing.

[FR Doc. 04-13944 Filed 6-21-04; 8:45 am]

BILLING CODE 4210-33-P